DEPARTMENT OF AGRICULTURE

Animal and Plant Health Inspection Service

[Docket No. APHIS-2024-0065]

Notice of Request for Reinstatement of an Information Collection; National Animal Health Monitoring System; Equine 2026 Study

AGENCY: Animal and Plant Health Inspection Service, USDA.

ACTION: Reinstatement of an information collection; comment request.

SUMMARY: In accordance with the Paperwork Reduction Act of 1995, this notice announces the Animal and Plant Health Inspection Service's intention to request the reinstatement of an information collection to conduct the National Animal Health Monitoring System's Equine 2026 Study.

DATES: We will consider all comments that we receive on or before April 25, 2025.

ADDRESSES: You may submit comments by either of the following methods:

• Federal eRulemaking Portal: Go to www.regulations.gov. Enter APHIS-2024-0065 in the Search field. Select the Documents tab, then select the Comment button in the list of documents.

• Postal Mail/Commercial Delivery: Send your comment to Docket No. APHIS-2024-0065, Regulatory Analysis and Development, PPD, APHIS, Station 2C-10.16, 4700 River Road, Unit 25, Riverdale, MD 20737-1238.

Supporting documents and any comments we receive on this docket may be viewed at regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the Equine 2026 Study, contact Ms. Nia Washington-Plaskett, Program Analyst, Center for Epidemiology and Animal Health, VS, APHIS, 2150 Centre Ave., Bldg. B, Fort Collins, CO 80524; phone: (866) 907-8190; email: nia.washington-plaskett@usda.gov or vs.sp.ceah.pci@usda.gov. For more information on the information collection reporting process, contact Mr. Joseph Moxey, APHIS' Paperwork Reduction Act Coordinator, at (301) 851-2533; email: joseph.moxey@usda.gov.

SUPPLEMENTARY INFORMATION:

Title: National Animal Health Monitoring System; Equine 2026 Study.

OMB Control Number: 0579-0269.

Type of Request: Reinstatement of a previously approved information collection.

Abstract: Under the Animal Health Protection Act (7 U.S.C. 8301 et seq.), the Secretary of Agriculture is authorized to protect the health of the livestock, poultry, and aquaculture populations in the United States by preventing the introduction and interstate spread of serious diseases and pests of livestock, and for eradicating such diseases from the United States when feasible. This authority has been delegated to the Animal and Plant Health Inspection Service (APHIS).

In connection with this mission, APHIS operates the National Animal Health Monitoring System (NAHMS), which collects on a national basis statistically valid and scientifically sound data on the prevalence and economic importance of livestock, poultry, and aquaculture disease risk factors.

NAHMS' studies have evolved into a collaborative industry and government initiative to help determine the most effective means of preventing and controlling diseases of livestock. NAHMS is the only Federal statistical agency or unit responsible for collecting statistically representative and valid data on livestock health. Participation in any NAHMS study is voluntary, and all data are confidential.

NAHMS plans to conduct the Equine 2026 Study as part of an ongoing series of NAHMS studies on the U.S. livestock population. This study will support the following objectives: (1) Describe trends in equine care, health management, and disease occurrence over time based on data from 1998, 2005, 2015, and 2026; (2) describe biosecurity and health management strategies related to the control of important equine infectious diseases at equine events ¹ and on farms; (3) describe use of equine veterinary services and equine owner perceptions about availability of veterinary services for equids; ² (4) describe issues surrounding equids that are at-risk (an equid that has an increased possibility of experiencing neglect, abuse or poor welfare), and/or in transition (transitioning from one home, vocation, opportunity, or owner to the next); (5) describe owner preparedness for emergencies and natural disasters affecting equids; and (6) estimate the prevalence of equine respiratory disease pathogens from environmental samples at equine events.

¹ Equine events include, but are not limited to, the following event types: Western performance events, rodeo, polo match, fair or exhibition, race, trail ride (recreational) or endurance, sale, auction, breed or discipline inspection, training clinic, draft-horse pull/shows, horse trials, dressage, 3-day eventing, hunter paces, and driving competitions.

² Equids include horses, ponies, mules, burros, and donkeys.

The study will consist of two phases. In phase I, a National Agricultural Statistics Service enumerator will contact and conduct interviews with owner/operators with 5 or more equids in all 50 States. In phase II (APHIS phase), an APHIS-designated data collector (APHIS Veterinary Services, Veterinary Medical Officer or authorized official, such as Animal Health Technicians, State employees, and/or university cooperators) will contact equine event representatives hosting equine events in 30 States.³ Events studied will represent many breeds, disciplines and differing event sizes and types, but will be limited to events that are likely to draw participants from at least a large portion of a State or from out of State. Events that only draw participants from the local areas within the State where they are held will be excluded. Phase II will consist of completing an equine event informed consent and event questionnaires. In addition, biologic sampling at equine events will be available to selected Phase II participants.

³ The States selected for inclusion in Phase II (APHIS phase) of the Equine 2026 study are: Arizona, California, Colorado, Connecticut, Florida, Georgia, Hawaii, Illinois, Kentucky, Massachusetts, Maryland, Minnesota, Missouri, Mississippi, North Carolina, Nebraska, New Jersey, New York, Ohio, Oklahoma, Oregon, Pennsylvania, South Carolina, Texas, Utah, Virginia, Vermont, Washington, Wisconsin, and Wyoming.

The information collected through the NAHMS Equine 2026 Study will be analyzed and organized into descriptive reports. Several information sheets will be derived from these reports and disseminated by NAHMS to owner/operators, stakeholders, academia, veterinarians, and other interested parties. The collected data will be used to: (1) Establish national and regional estimates for equine health and management for owner/operator, veterinary, and industry references; (2) predict or detect national and regional trends in disease emergence and movement; (3) address emerging issues; (4) aid in disease preparedness; (5) provide estimates of both outcome (disease or other parameters) and exposure (risks and components) variables that can be used in analytic studies in the future by NAHMS; (6) provide input into the design of surveillance systems for specific diseases; and (7) provide parameters for animal disease spread models.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.4436 hours per response.

Respondents: Phase I: Equine owner/operators on operations with 5 or more equids in all 50 States. Phase II: Equine event representatives and equine event participants in 30 States.³

Estimated annual number of respondents: 6,545.

Estimated annual number of responses per respondent: 3.

Estimated annual number of responses: 16,832.

Estimated total annual burden on respondents: 7,466 hours. (Due to averaging, the total annual burden hours may not equal the product of the annual number of responses multiplied by the reporting burden per response.)

All responses to this notice will be summarized and included in the request for OMB approval. All comments will also become a matter of public record.

Done in Washington, DC, this 12th day of February 2025.
Michael Watson,
Administrator, Animal and Plant Health Inspection Service.

[FR Doc. 2025-02984 Filed 2-21-25; 8:45 am]

BILLING CODE 3410-34-P